DEPARTMENT OF JUSTICE

Notice of Lodging of Proposed Consent Decree Under Clean Air Act

On June 18, 2013, the Department of Justice lodged a proposed Consent Decree with the United States District Court for the District of Columbia in the lawsuit entitled United States v. American Honda Motor Company, Inc., Civil Action No. 1:13-cv-912.

In this action the United States seeks, among other things, injunctive relief and civil penalties for the importation by American Honda Motor Company, Inc. (“AHM”) of uncertified small non-road gasoline engines in violation of Section 203(a) of the Clean Air Act (“CAA”), 42 U.S.C. 7522(a). The engines were uncertified because they did not conform to the certificates of conformity issued to cover their importation and sale in the United States, in that they lacked mufflers or air intake boxes. The proposed Consent Decree provides for AHM to pay a $580,000 civil penalty and to address the environmental harm by retiring 55 tons of pollution credits.

The publication of this notice opens a period for public comment on the Consent Decree. Comments should be addressed to the Assistant Attorney General, Environment and Natural Resources Division, and should refer to United States v. American Honda Motor Company, Inc., D.J. Ref. No. 90-5-2-1-10148. All comments must be submitted no later than 30 days after the publication date of this notice. Comments may be submitted either by email or by mail:

To submit comments: | Send them to:
By email | pubcommentees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $4.25 (25 cents per page reproduction cost) payable to the United States Treasury.

Maureen Katz,
Assistant Section Chief, Environmental Enforcement Section, Environment and Natural Resources Division.

[FR Doc. 2013-15148 Filed 6-24-13; 8:45 am]

BILLING CODE 4410-15-P